DEPARTMENT OF THE TREASURY

Office of Foreign Assets Control

[Case IDs VENEZUELA-EO13850-15912, VENEZUELA-15923]

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Actions

On April 17, 2019, OFAC determined that [the property and interests in property subject to U.S. jurisdiction of the following persons are blocked under the relevant sanctions authorities listed below.

Individual

1. RUZZA TERAN, Iliana Josefa (Latin: RUZZA TERÁN, Iliana Josefa), Caracas, Venezuela; DOB 27 Feb 1980; Gender Female; Cedula No. 14310920 (Venezuela) (individual) [VENEZUELA].

Designated pursuant to section 1(a)(ii)(C) of Executive Order 13692 of March 8, 2015, “Blocking Property and Suspending Entry of Certain Persons Contributing to the Situation in Venezuela” (E.O. 13692), as amended by Executive Order 13857 (E.O. 13857) of January 25, 2019, “Taking Additional Steps To Address the National Emergency With Respect to Venezuela,” (E.O. 13857) for being a current or former official of the Government of Venezuela.

Entity

1. BANCO CENTRAL DE VENEZUELA (a.k.a. CENTRAL BANK OF VENEZUELA), Av. Urdaneta, Esquina Las Carmelitas, Edif. Banco Central, Caracas, Venezuela; Av. Urdaneta, Esquina de Carmelitas, Distrito Capital, Caracas 1010, Venezuela; SWIFT/BIC BCVEVECA; Tax ID No. G200001100 (Venezuela) [VENEZUELA-EO13850].

Designated pursuant to section 1(a)(i) of Executive Order 13850 (E.O. 13850) of November 1, 2018, “Blocking Property of Additional Persons Contributing to the Situation in Venezuela,” as amended by E.O. 13857, for operating in the financial sector of the Venezuelan economy.

Dated: May 15, 2019.
Andrea Gacki,
Director, Office of Foreign Assets Control.

[FR Doc. 2019-10490 Filed 5-20-19; 8:45 am]

BILLING CODE 4810-AL-P